DEPARTMENT OF HEALTH AND HUMAN SERVICES

Centers for Medicare & Medicaid Services

Statement of Organization, Functions, and Delegations of Authority

AGENCY: Centers for Medicare & Medicaid Services, HHS.

SUMMARY: The Centers for Medicare and Medicaid Services, Center for Medicare, Office of Minority Health has modified its organizational structure.

SUPPLEMENTARY INFORMATION: Part F of the Statement of Organization, Functions, and Delegations of Authority for the Department of Health and Human Services, Centers for Medicare & Medicaid Services (CMS) (last amended at Federal Register, Vol. 87, No. 205, pp. 64492-64494, dated October 25, 2022) is amended to reflect the establishment of the Business Operations Services & Engagement Group within the CMS Office of Minority Health (OMH).

Part F, Section FC. 10 (Organization) is revised as follows:

Office of Minority Health, Business Operations Services and Engagement Group Part F, Section FC. 20 (Functions) for the new organization is as follows:

Business Operations Services & Engagement Group

• Serves as the focal point on all CMS Office of Minority Health (OMH) shared business operations that affect the management of CMS OMH. This includes matters related to budget, human capital, facilities, technology, and internal communications.

• Manages and coordinates the correspondence program for CMS OMH, acquisition planning, human capital management, staff development, awards and recognition, and management of travel, space, computers, telephones, and other business resources.

• Develops policies and provides policy direction, coordination, and support for CMS OMH business services including budget formulation and execution, procurement planning, information technology management, facilities support, correspondence management, and human resources management.

• Monitors CMS OMH business operations, identifies Office/Group information needs and requirements, and coordinates necessary implementation activities with the Office of Financial Management (OFM), Office of Acquisition and Grants Management, Office of Information Technology, and the Chief Operating Officer.

• Formulates, executes, and manages the budget, procurement, operating plan for CMS OMH programs. Prepares briefing materials to defend budget to the Department, Office of Management and Budget (OMB), and Congress.

• Represents CMS OMH in meetings with CMS, the Department of Health and Human Services (HHS), and OMB officials regarding financing these initiatives.

• Collaborate with the Office of Acquisition and Grants Management to develop and negotiate large-scale crosscutting contracts and inter/intra agency agreements, which include the development of contractor specifications, work statements, and evaluation criteria to support the Office of the Secretary beneficiary service functions and OMH business operations.

• Represents CMS OMH leadership in meetings with OFM involving CMS OMH budget requirements. Provides support for negotiating and finalizing CMS formulation and execution plans, analysis and development of additional funding requests; analyses and recommendations on re-programming of funds and negotiating for funds on behalf of OMH. Interacts with CMS OMH staff and other CMS components to maximize the effectiveness and efficiency of CMS spending.

• Works with other CMS components to develop programs and initiatives that support healthcare providers who practice in minority and underserved geographic regions, and whose patient mix contains a disproportionate share of minority and other minority and underserved populations.

• Develops tools, resources, training and educational materials, and outreach activities to foster awareness of health disparities and Agency efforts to improve minority health and reduce disparities for internal and external stakeholders, beneficiaries and the public in consultation with the Office of Communications, Division of Tribal Affairs, Regional Offices and other CMS components and offices, and HHS as appropriate.

• Serves as a conduit for beneficiary and stakeholder feedback and works closely with communications staff in CMS and HHS to ensure that the perspectives of vulnerable populations are represented in the development of agency communication and outreach strategies and that the implementation of these strategies is done in a manner that is culturally and linguistically appropriate and responsive to the needs of vulnerable populations.

• Coordinates grants, contracts and memorandums of understanding including partnerships with external entities including learning institutions, States, Territories and Tribal Nations.

• Serves as an agency resource and conduit responsible for outward/external promotion of messaging and the progress of CMS's work to decrease health disparities. Develop holistic and comprehensive marketing plans on resources and information that incorporate and leverage existing communication channels and vehicles in CMS to reach CMS OMH target populations.

• Manage the CMS OMH website, CMS OMH listserv announcements, social posts, partner emails, webinars and events, external information campaigns and internal communication trainings and technical support on messaging health equity and the needs of vulnerable populations.

• Provides management and administrative support to the CMS OMH Director's office.

Authority: 44 U.S.C. 3101.

Xavier Becerra,
Secretary of Health and Human Services.

[FR Doc. 2023-06396 Filed 3-27-23; 8:45 am]

BILLING CODE 4150-28-P